NUCLEAR REGULATORY COMMISSION

Sunshine Act Meeting; Notice

Agency Holding the Meeting: Nuclear Regulatory Commission

Date: Weeks of February 19, 26, March 5, 12, 19, 26, 2001.

Place: Commissioners' Conference Room, 11555 Rockville Pike, Rockville, Maryland.

Status: Public and Closed.

Matters to be Considered:

Week of February 19, 2001

Tuesday, February 20, 2001

10:25 a.m.—Affirmation Session (Public Meeting) (If needed)

10:30 a.m.—Briefing on Spent Fuel Pool Accident Risk at Decommissioning Plants and Rulemaking Initiatives (Public Meeting) (Contact: George Hubbard, 301-415-2870)

This meeting will be webcast live at the Web address— www.nrc.gov/live.html.

Week of February 26, 2001—Tentative

Monday, February 26, 2001

2 p.m.—Meeting with the National Association of Regulatory Utility Commissioners (NARUC) (Public Meeting) (Contact: Spiros Droggitis, 301-415-2367)

This meeting will be webcast live at the Web address— www.nrc.gov/live.html.

Tuesday, February 27, 2001

10:25 a.m.—Affirmation Session (Public Meeting) (If needed)

10:30 a.m.—Briefing on Threat Environment Assessment (Closed-Ex. 1)

Week of March 5, 2001—Tentative

There are no meetings scheduled for the Week of March 5, 2001.

Week of March 12, 2001—Tentative

Monday, March 12, 2001

1:25 p.m.—Affirmation Session (Public Meeting) (If needed)

1:30 p.m.—Discussion of Management Issues (Closed-Ex. 2)

Week of March 19, 2001—Tentative

Thursday, March 22, 2001

10:25 a.m.—Affirmation Session (Public Meeting) (If needed)

10:30 a.m.—Meeting with Advisory Committee on Nuclear Waste (ACNW) (Public Meeting) (Contact: John Larkins, 301-415-7360)

This meeting will be webcast live at the Web address— www.nrc.gov/live.html.

Week of March 26, 2001—Tentative

There are no meetings scheduled for the Week of March 26, 2001.

* The schedule for Commission meetings is subject to change on short notice. To verify the status of meetings call (recording)—(301) 415-1292. Contact person for more information: David Louis Gamberoni (301) 415-1651.

* * * * *

Additional Information:

By a vote of 5-0 on February 12, the Commission determined pursuant to U.S.C. 552b(e) and § 9.107(a) of the Commission's rules that “Affirmation of Private Fuel Storage (Independent Spent Fuel Storage Installation) Docket No. 72-22; Certified Review of LBP-01-03” be held on February 14, and on less than one week's notice to the public.

By a vote of 5-0 on February 14, the Commission determined pursuant to U.S.C. 552b(e) and § 9.107(a) of the Commission's rules that “Affirmation of Carolina Power & Light Company (Shearon Harris Nuclear Power Plant); Orange County's Petition for Review and Request for Immediate Suspension and Stay of the NRC Staff's ‘No Significant Hazards Consideration’ Determination and Issuance of License Amendment for Shearon Harris Spent Fuel Pool Expansion” be held on February 14, and on less than one week's notice to the public.

* * * * *

The NRC Commission Meeting Schedule can be found on the Internet at: http://www.nrc.gov/SECY/smj/schedule.htm

* * * * *

This notice is distributed by mail to several hundred subscribers; if you no longer wish to receive it, or would like to be added to the distribution, please contact the Office of the Secretary, Washington, D.C. 20555 (301-415-1969). In addition, distribution of this meeting notice over the Intenet system is available. if you are interested in receiving this Commission meeting schedule electronically, please send an electronic message to dkw@nrc.gov.

Dated: February 15, 2001.
Sandra M. Joosten,
Executive Assistant, Office of the Secretary.

[FR Doc. 01-4369 Filed 2-16-01; 10:29 am]

BILLING CODE 7590-01-M